DEPARTMENT OF STATE

[Public Notice: 12855]

Notice of 2023 Department of State Sanctions Actions Pursuant to the Executive Order Regarding Blocking Property With Respect to Specified Harmful Foreign Activities of the Government of the Russian Federation

SUMMARY: The Department of State is publishing the names of one or more persons that were placed on the Department of Treasury's List of Specially Designated Nationals and Blocked Persons (SDN List) administered by the Office of Foreign Asset Control (OFAC) in 2023 based on the Department of State's determination, in consultation with other departments, as appropriate, that one or more applicable legal criteria of the Executive Order regarding blocking property with respect to specified harmful foreign activities of the Government of the Russian Federation were satisfied. All property and interests in property subject to U.S. jurisdiction of these persons are blocked, and U.S. persons are generally prohibited from engaging in transactions with them.

DATES: These actions were issued on January 26, 2023, February 24, 2023, April 12, 2023, May 19, 2023, July 20, 2023, September 14, 2023, November 2, 2023, and December 12, 2023, respectively.

See SUPPLEMENTARY INFORMATION section for effective date(s) in 2023.

FOR FURTHER INFORMATION CONTACT: Office of Counterproliferation Initiatives, Bureau of Arms Control and Nonproliferation, Department of State, Washington, DC 20520, tel.: (202) 647 5193, email: ACN_Sanctions@state.gov.

SUPPLEMENTARY INFORMATION:

Electronic Availability

The SDN List and additional information concerning OFAC sanctions programs are available on OFAC's website (https://www.treasury.gov/ofac). The announcements for these actions are available on the Department of State's website (https://2021-2025.state.gov/actions-to-counter-wagner-and-degrade-russias-war-efforts-in-ukraine/; https://2021-2025.state.gov/the-united-states-takes-sweeping-actions-on-the-one-year-anniversary-of-russias-war-against-ukraine/; https://2021-2025.state.gov/further-curbing-russias-efforts-to-evade-sanctions-and-perpetuate-its-war-against-ukraine-2/; https://2021-2025.state.gov/united-states-imposes-additional-sanctions-and-export-controls-on-russia/; https://2021-2025.state.gov/imposing-additional-sanctions-on-those-supporting-russias-war-against-ukraine/; https://2021-2025.state.gov/imposing-further-sanctions-in-response-to-russias-illegal-war-against-ukraine/; https://ofac.treasury.gov/recent-actions/20231102; https://2021-2025.state.gov/taking-additional-sweeping-measures-against-russia-3/).

Notice of Department of State Actions

On January 26, 2023, the Department of State, in consultation with other departments, as appropriate, determined that the property and interests in property subject to U.S. jurisdiction of the following persons are blocked under the relevant sanctions authority listed below.

Individuals

1. MALYAREVICH, Aleksei Alekseevich (a.k.a. MALYAREVICH, Aleksey), Russia; DOB 27 Aug 1965; nationality Russia; Gender Male (individual) [RUSSIA-EO14024] (Linked To: LIMITED LIABILITY COMPANY CHARTER GREEN LIGHT MOSCOW).

Designated pursuant to section 1(a)(vii) of Executive Order 14024 of April 15, 2021 “Blocking Property With Respect To Specified Harmful Foreign Activities of the Government of the Russian Federation,” (E.O. 14024) for being owned or controlled by, or for having acted or purported to act for or on behalf of, directly or indirectly, LIMITED LIABILITY COMPANY CHARTER GREEN LIGHT MOSCOW, a person whose property and interests in property are blocked pursuant to E.O. 14024.

Entities

BILLING CODE 4710-27-P

BILLING CODE 4710-27-C

Notice of Department of State Actions

On February 24, 2023, the Department of State, in consultation with other departments, as appropriate, determined that the property and interests in property subject to U.S. jurisdiction of the following persons are blocked under the relevant sanctions authority listed below.

Individuals

1. ROMANENKO, Oleg Evgenievich (a.k.a. ROMANENKO, Oleg; a.k.a. ROMANENKO, Oleg Yegemyevich), 29/8 Heroev Ave, Apt 51, Balakovo, Saratov Region, Russia; DOB 05 Oct 1963; POB Soledar, Bakhmut District, Donetsk Region, Ukraine; nationality Russia; Gender Male; Passport 6308 264336 (Russia); Tax ID No. 643910675500 (Russia) (individual) [RUSSIA-EO14024].

Designated pursuant to section 1(a)(vii) of E.O. 14024 for acting or purporting to act for or on behalf of, directly or indirectly, JOINT STOCK COMPANY OPERATING ORGANIZATION OF ZAPORIZHZHYA NPP, a person whose property and interests in property are blocked pursuant to E.O. 14024.

Entities

1. RUSSIAN FEDERAL NUCLEAR CENTER—ZABABAKHIN ALL-RUSSIA RESEARCH INSTITUTE OF TECHNICAL PHYSICS (a.k.a. CHELYABINSK-70; a.k.a. FEDERAL STATE UNITARY ENTERPRISE RUSSIAN FEDERAL NUCLEAR CENTER-ACADEMICIAN E.I. ZABABKHIN ALL-RUSSIAN SCIENTIFIC RESEARCH INSTITUTE OF TECHNICAL PHYSICS; a.k.a. KASLI NUCLEAR WEAPONS DEVELOPMENT CENTER; a.k.a. VSEROSSIYSKY NAUCHNO-ISSLEDOVATELSKIY INSTITUT TEKHNICHESKOY FIZIKI; a.k.a. ZABABAKHIN ALL-RUSSIA RESEARCH INSTITUTE OF TECHNICAL PHYSICS; a.k.a. ZABABAKHIN INSTITUTE; a.k.a. “RFNC-VNIITF”; a.k.a. “VNIITF”), P.O. Box 245, Snezhinsk, Chelyabinsk Region 456770, Russia; Organization Established Date 1955; Tax ID No. 7423000572 (Russia); Registration Number 1027401350932 (Russia) [RUSSIA-EO14024].

Designated pursuant to section 1(a)(i) of E.O. 14024 for operating or having operated in the defense and related materiel sector of the Russian Federation economy.

2. ALL-RUSSIAN SCIENTIFIC RESEARCH INSTITUTE OF EXPERIMENTAL PHYSICS (a.k.a. ARZAMAS-16; a.k.a. AVANGARD ELECTROMECHANICAL PLANT; a.k.a. FEDERAL STATE UNITARY ENTERPRISE RUSSIAN FEDERAL NUCLEAR CENTER-ALL RUSSIAN SCIENTIFIC RESEARCH INSTITUTE OF EXPERIMENTAL PHYSICS; a.k.a. KHARITON INSTITUTE; a.k.a. SAROV NUCLEAR WEAPONS PLANT; a.k.a. VSEROSSIYSKIY NAUCHNO-ISSLEDOVATELSKIY INSTITUT EKSPERIMENTALNOY; a.k.a. “RFNC-VNIIEF”; a.k.a. “VNIIEF”), 10 Muzrukov Ave, Sarov, Nizhny Novgorod Region 607188, Russia; Organization Established Date 1992; Tax ID No. 5254001230 (Russia); Registration Number 1025202199791 (Russia) [RUSSIA EO14024].

Designated pursuant to section 1(a)(i) of E.O. 14024 for operating or having operated in the defense and related materiel sector of the Russian Federation economy.

3. FEDERAL STATE UNITARY ENTERPRISE DUKHOV AUTOMATICS RESEARCH INSTITUTE (a.k.a. ALL-RUSSIA RESEARCH INSTITUTE OF AUTOMATICS; a.k.a. FEDERAL STATE UNITARY ENTERPRISE ALL-RUSSIAN AUTOMATICS RESEARCH INSTITUTE NAMED AFTER N.L. DUKHOV; a.k.a. “VNIIA”), 22 Sushchevskaya st., Moscow 127055, Russia; Organization Established Date 15 Apr 1994; Tax ID No. 7707074137 (Russia); Registration Number 1027739646164 (Russia) [RUSSIA-EO14024].

Designated pursuant to section 1(a)(i) of E.O. 14024 for operating or having operated in the defense and related materiel sector of the Russian Federation economy.

4. MAIN DIRECTORATE OF DEEP SEA RESEARCH (a.k.a. FEDERAL STATE INSTITUTION MILITARY UNIT 40056; a.k.a. GLAVNOYE UPRAVLENIE GLUBOKOVODSK ISSLEDOVANII; a.k.a. “GUGI”), 26A Onezhskaya Str., Moscow 125413, Russia; Organization Established Date 08 Dec 2009; Tax ID No. 7443763446 (Russia) [RUSSIA-EO14024].

Designated pursuant to section 1(a)(i) of E.O. 14024 for operating or having operated in the defense and related materiel sector of the Russian Federation economy.

5. JOINT STOCK COMPANY OPERATING ORGANIZATION OF ZAPORIZHZHYA NPP (a.k.a. JOINT STOCK COMPANY OPERATING ORGANIZATION ZAPORIZHZHYA NUCLEAR POWER PLANT; a.k.a. “JSC OE ZNPP”), Ferganskaya Street 25, Moscow, Russia; Organization Established Date Oct 2022 [RUSSIA-EO14024].

Designated pursuant to section 1(a)(vii) of E.O. 14024 for being owned or controlled by, or acting or purporting to act for or on behalf of, directly or indirectly, the Government of the Russian Federation.

BILLING CODE 4710-27-P

Notice of Department of State Actions

On April 12, 2023, the Department of State, in consultation with other departments, as appropriate, determined that the property and interests in property subject to U.S. jurisdiction of the following persons are blocked under the relevant sanctions authority listed below.

Individuals

Entities

Notice of Department of State Actions

On May 19, 2023, the Department of State, in consultation with other departments, as appropriate, determined that the property and interests in property subject to U.S. jurisdiction of the following persons are blocked under the relevant sanctions authority listed below.

Entities

BILLING CODE 4710-27-C

Aircraft

1. RA-65690; Aircraft Model TU-134; Aircraft Manufacturer's Serial Number (MSN) 62805; Aircraft Tail Number RA-65690 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

2. RA-65986; Aircraft Model TU-134; Aircraft Manufacturer's Serial Number (MSN) 63475; Aircraft Tail Number RA-65986 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

3. RA-65989; Aircraft Model TU-134; Aircraft Manufacturer's Serial Number (MSN) 63605; Aircraft Tail Number RA-65989 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

4. RA-65996; Aircraft Model TU-134; Aircraft Manufacturer's Serial Number (MSN) 63825; Aircraft Tail Number RA-65996 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

5. RA-72963; Aircraft Model AN-72; Aircraft Manufacturer's Serial Number (MSN) 36572092845; Aircraft Tail Number RA-72963 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

6. RA-78830; Aircraft Model IL-76; Aircraft Manufacturer's Serial Number (MSN) 1003401010; Aircraft Tail Number RA-78830 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

7. RA-78840; Aircraft Model IL-76; Aircraft Manufacturer's Serial Number (MSN) 1003403056; Aircraft Tail Number RA-78840 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

8. RA-78847; Aircraft Model IL-76; Aircraft Manufacturer's Serial Number (MSN) 1003404132; Aircraft Tail Number RA-78847 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

9. RA-78850; Aircraft Model IL-76; Aircraft Manufacturer's Serial Number (MSN) 1013405196; Aircraft Tail Number RA-78850 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

10. RA-85041; Aircraft Model TU-154; Aircraft Manufacturer's Serial Number (MSN) 12A997; Aircraft Tail Number RA-85041 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

11. RA-85042; Aircraft Model TU-154; Aircraft Manufacturer's Serial Number (MSN) 12A998; Aircraft Tail Number RA-85042 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

12. RA-85155; Aircraft Model TU-154; Aircraft Manufacturer's Serial Number (MSN) 1000; Aircraft Tail Number RA-85155 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

13. RA-85360; Aircraft Model TU-154; Aircraft Manufacturer's Serial Number (MSN) 79A360; Aircraft Tail Number RA-85360 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

14. RA-85426; Aircraft Model TU-154; Aircraft Manufacturer's Serial Number (MSN) 81A426; Aircraft Tail Number RA-85426 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

15. RA-85446; Aircraft Model TU-154; Aircraft Manufacturer's Serial Number (MSN) 80A446; Aircraft Tail Number RA-85446 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

16. RA-85534; Aircraft Model TU-154; Aircraft Manufacturer's Serial Number (MSN) 82A534; Aircraft Tail Number RA-85534 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

17. RA-85554; Aircraft Model TU-154; Aircraft Manufacturer's Serial Number (MSN) 82A554; Aircraft Tail Number RA-85554 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

18. RA-85555; Aircraft Model TU-154; Aircraft Manufacturer's Serial Number (MSN) 82A555; Aircraft Tail Number RA-85555 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

19. RA-85559; Aircraft Model TU-154; Aircraft Manufacturer's Serial Number (MSN) 82A559; Aircraft Tail Number RA-85559 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

20. RA-85563; Aircraft Model TU-154; Aircraft Manufacturer's Serial Number (MSN) 82A563; Aircraft Tail Number RA-85563 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

21. RA-85571; Aircraft Model TU-154; Aircraft Manufacturer's Serial Number (MSN) 83A571; Aircraft Tail Number RA-85571 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

22. RA-85586; Aircraft Model TU-154; Aircraft Manufacturer's Serial Number (MSN) 84A586; Aircraft Tail Number RA-85586 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

23. RA-85594; Aircraft Model TU-154; Aircraft Manufacturer's Serial Number (MSN) 84A594; Aircraft Tail Number RA-85594 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

24. RA-85605; Aircraft Model TU-154; Aircraft Manufacturer's Serial Number (MSN) 85A605; Aircraft Tail Number RA-85605 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

25. RA-85686; Aircraft Model TU-154; Aircraft Manufacturer's Serial Number (MSN) 90A854; Aircraft Tail Number RA-85686 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

26. RA-86495; Aircraft Model IL-62; Aircraft Manufacturer's Serial Number (MSN) 2726628.1; Aircraft Tail Number RA-86495 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

27. RA-86496; Aircraft Model IL-62; Aircraft Manufacturer's Serial Number (MSN) 3829859.1; Aircraft Tail Number RA-86496 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

28. RA-86539; Aircraft Model IL-62; Aircraft Manufacturer's Serial Number (MSN) 2344615; Aircraft Tail Number RA-86539 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

29. RA-86555; Aircraft Model IL-62; Aircraft Manufacturer's Serial Number (MSN) 4547315; Aircraft Tail Number RA-86555 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

30. RA-86561; Aircraft Model IL-62; Aircraft Manufacturer's Serial Number (MSN) 4154842; Aircraft Tail Number RA-86561 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

31. RA-86572; Aircraft Model IL-62; Aircraft Manufacturer's Serial Number (MSN) 3154624; Aircraft Tail Number RA-86572 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

32. RA-86906; Aircraft Model IL-76; Aircraft Manufacturer's Serial Number (MSN) 23436064; Aircraft Tail Number RA-86906 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

33. RA-75478; Aircraft Model IL-18; Aircraft Manufacturer's Serial Number (MSN) 189011302; Aircraft Tail Number RA-75478 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

34. RA-75496; Aircraft Model IL-18; Aircraft Manufacturer's Serial Number (MSN) 188011303; Aircraft Tail Number RA-75496 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

35. RA-75499; Aircraft Model IL-18; Aircraft Manufacturer's Serial Number (MSN) 188011004; Aircraft Tail Number RA-75499 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

36. RA-75676; Aircraft Model IL-18; Aircraft Manufacturer's Serial Number (MSN) 185008605; Aircraft Tail Number RA-75676 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

37. RA-95951; Aircraft Model TU-134; Aircraft Manufacturer's Serial Number (MSN) 63845; Aircraft Tail Number RA-95951 (aircraft) [RUSSIA-EO14024] (Linked To: FEDERAL STATE GOVERNMENTAL INSTITUTION 223 FLIGHT UNIT STATE AIRLINES OF THE MINISTRY OF DEFENSE OF THE RUSSIAN FEDERATION).

Identified as property in which FEDERAL STATE GOVERNMENTAL INSTITUTION 223 FLIGHT UNIT STATE AIRLINES OF THE MINISTRY OF DEFENSE OF THE RUSSIAN FEDERATION, an entity whose property and interests in property are blocked pursuant to E.O. 14024, has an interest.

38. RA-76592; Aircraft Manufacture Date 31 May 1984; Aircraft Model IL-76; Aircraft Manufacturer's Serial Number (MSN) 43452555; Aircraft Tail Number RA-76592 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

39. RA-76638; Aircraft Manufacture Date 31 May 1985; Aircraft Model IL-76; Aircraft Manufacturer's Serial Number (MSN) 53460802; Aircraft Tail Number RA-76638 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

40. RA-76669; Aircraft Manufacture Date 30 Jan 1986; Aircraft Model IL-76; Aircraft Manufacturer's Serial Number (MSN) 63465949; Aircraft Tail Number RA-76669 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

41. RA-76686; Aircraft Manufacture Date 20 May 1986; Aircraft Model IL-76; Aircraft Manufacturer's Serial Number (MSN) 63468045; Aircraft Tail Number RA-76686 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

42. RA-76713; Aircraft Manufacture Date 29 Nov 1986; Aircraft Model IL-76; Aircraft Manufacturer's Serial Number (MSN) 63474193; Aircraft Tail Number RA-76713 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

43. RA-76719; Aircraft Manufacture Date 30 Jan 1987; Aircraft Model IL-76; Aircraft Manufacturer's Serial Number (MSN) 73474226; Aircraft Tail Number RA-76719 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

44. RA-76738; Aircraft Manufacture Date 30 Jun 1987; Aircraft Model IL-76; Aircraft Manufacturer's Serial Number (MSN) 73477326; Aircraft Tail Number RA-76738 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

45. RA-78750; Aircraft Manufacture Date 29 Feb 1988; Aircraft Model IL-76; Aircraft Manufacturer's Serial Number (MSN) 83483510; Aircraft Tail Number RA-78750 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

46. RA-78762; Aircraft Manufacture Date 30 Jun 1988; Aircraft Model IL-76; Aircraft Manufacturer's Serial Number (MSN) 83486574; Aircraft Tail Number RA-78762 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

47. RA-78776; Aircraft Model IL-76; Aircraft Manufacturer's Serial Number (MSN) 83489652; Aircraft Tail Number RA-78776 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

48. RA-78789; Aircraft Manufacture Date 30 Dec 1988; Aircraft Model IL-76; Aircraft Manufacturer's Serial Number (MSN) 83490706; Aircraft Tail Number RA-78789 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

49. RA-78794; Aircraft Manufacture Date 31 Jan 1989; Aircraft Model IL-76; Aircraft Manufacturer's Serial Number (MSN) 93490726; Aircraft Tail Number RA-78794 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

50. RA-78796; Aircraft Manufacture Date 28 Feb 1989; Aircraft Model IL-76; Aircraft Manufacturer's Serial Number (MSN) 93491735; Aircraft Tail Number RA-78796 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

51. RA-78816; Aircraft Manufacture Date 31 Jul 1989; Aircraft Model IL-76; Aircraft Manufacturer's Serial Number (MSN) 93495846; Aircraft Tail Number RA-78816 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

52. RA-78817; Aircraft Manufacture Date 31 Jul 1989; Aircraft Model IL-76; Aircraft Manufacturer's Serial Number (MSN) 93495851; Aircraft Tail Number RA-78817 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

53. RA-78818; Aircraft Manufacture Date 31 Aug 1989; Aircraft Model IL-76; Aircraft Manufacturer's Serial Number (MSN) 93495858; Aircraft Tail Number RA-78818 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

54. RA-78831; Aircraft Manufacture Date 31 Aug 1990; Aircraft Model IL-76; Aircraft Manufacturer's Serial Number (MSN) 1003401017; Aircraft Tail Number RA-78831 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

55. RA-78835; Aircraft Manufacture Date 25 May 1990; Aircraft Model IL-76; Aircraft Manufacturer's Serial Number (MSN) 1003402033; Aircraft Tail Number RA-78835 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

56. RA-78842; Aircraft Manufacture Date 30 Jun 1990; Aircraft Model IL-76; Aircraft Manufacturer's Serial Number (MSN) 1003403069; Aircraft Tail Number RA-78842 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

57. RA-78844; Aircraft Manufacture Date 31 Jul 1990; Aircraft Model IL-76; Aircraft Manufacturer's Serial Number (MSN) 1003403092; Aircraft Tail Number RA-78844 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

58. RA-78845; Aircraft Manufacture Date 28 Aug 1990; Aircraft Model IL-76; Aircraft Manufacturer's Serial Number (MSN) 1003403095; Aircraft Tail Number RA-78845 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

59. RA-78846; Aircraft Model AN-124; Aircraft Manufacturer's Serial Number (MSN) 1003403113; Aircraft Tail Number RA-78846 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

60. RA-82010; Aircraft Manufacture Date 30 Dec 1986; Aircraft Model AN-124; Aircraft Manufacturer's Serial Number (MSN) 9773053616017; Aircraft Tail Number RA-82010 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

61. RA-82012; Aircraft Manufacture Date 30 Jun 1987; Aircraft Model AN-124; Aircraft Manufacturer's Serial Number (MSN) 9773052732028; Aircraft Tail Number RA-82012 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

62. RA-82013; Aircraft Manufacture Date 29 Sep 1987; Aircraft Model AN-124; Aircraft Manufacturer's Serial Number (MSN) 9773053732033; Aircraft Tail Number RA-82013 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

63. RA-82014; Aircraft Manufacture Date 30 Nov 1987; Aircraft Model AN-124; Aircraft Manufacturer's Serial Number (MSN) 9773054732039; Aircraft Tail Number RA-82014 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

64. RA-82021; Aircraft Manufacture Date 29 Dec 1987; Aircraft Model AN-124; Aircraft Manufacturer's Serial Number (MSN) 19530502002; Aircraft Tail Number RA-82021 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

65. RA-82023; Aircraft Manufacture Date 30 Dec 1988; Aircraft Model AN-124; Aircraft Manufacturer's Serial Number (MSN) 19530502012; Aircraft Tail Number RA-82023 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

66. RA-82028; Aircraft Manufacture Date 22 Feb 1991; Aircraft Model AN-124; Aircraft Manufacturer's Serial Number (MSN) 19530502599; Aircraft Tail Number RA-82028 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

67. RA-82030; Aircraft Manufacture Date 30 Dec 1987; Aircraft Model AN-124; Aircraft Manufacturer's Serial Number (MSN) 9773054732045; Aircraft Tail Number RA-82030 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

68. RA-82036; Aircraft Manufacture Date 03 Mar 1989; Aircraft Model AN-124; Aircraft Manufacturer's Serial Number (MSN) 9773054832068; Aircraft Tail Number RA-82036 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

69. RA-82038; Aircraft Manufacture Date 29 Dec 1989; Aircraft Model AN-124; Aircraft Manufacturer's Serial Number (MSN) 9773054955077; Aircraft Tail Number RA-82038 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

70. RA-82039; Aircraft Manufacture Date 29 Jun 1990; Aircraft Model AN-124; Aircraft Manufacturer's Serial Number (MSN) 9773052055082; Aircraft Tail Number RA-82039 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

71. RA-82040; Aircraft Manufacture Date 31 Oct 1990; Aircraft Model AN-124; Aircraft Manufacturer's Serial Number (MSN) 9773053055086; Aircraft Tail Number RA-82040 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

72. RF-82041; Aircraft Manufacture Date 08 Feb 1991; Aircraft Model AN-124; Aircraft Manufacturer's Serial Number (MSN) 9773054055089; Aircraft Tail Number RF-82041 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

73. RF-78764; Aircraft Model IL-76; Aircraft Manufacturer's Serial Number (MSN) 83486585; Aircraft Tail Number RF-78764 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

74. RF-78797; Aircraft Manufacture Date 28 Feb 1989; Aircraft Model IL-76; Aircraft Manufacturer's Serial Number (MSN) 93491742; Aircraft Tail Number RF-78797 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

75. RF-78815; Aircraft Manufacture Date 31 Jul 1989; Aircraft Model IL-76; Aircraft Manufacturer's Serial Number (MSN) 93494842; Aircraft Tail Number RF-78815 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

76. RF-78834; Aircraft Manufacture Date 29 Apr 1990; Aircraft Model IL-76; Aircraft Manufacturer's Serial Number (MSN) 1003401032; Aircraft Tail Number RF-78834 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

77. RF-78838; Aircraft Manufacture Date 31 May 1990; Aircraft Model IL-76; Aircraft Manufacturer's Serial Number (MSN) 1003402044; Aircraft Tail Number RF-78838 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

78. RF-82032; Aircraft Manufacture Date 30 Jun 1988; Aircraft Model AN-124; Aircraft Manufacturer's Serial Number (MSN) 9773052832051; Aircraft Tail Number RF-82032 (aircraft) [RUSSIA-EO14024] (Linked To: JOINT STOCK COMPANY THE 224TH FLIGHT UNIT STATE AIRLINES).

Identified as property in which JOINT STOCK COMPANY THE 224TH FLIGHT UNIT STATE AIRLINES, an entity whose property and interests in property are blocked pursuant to E.O. 14024, has an interest.

On May 19, 2023, based on a decision by the Department of State, in consultation with other departments, as appropriate, OFAC updated the entry on the SDN List for the following person, whose property and interests in property subject to U.S. jurisdiction continue to be blocked under the relevant sanctions authority listed below.

BILLING CODE 4710-27-P

BILLING CODE 4710-27-C

Notice of Department of State Actions

On July 20, 2023, the Department of State, in consultation with other departments, as appropriate, determined that the property and interests in property subject to U.S. jurisdiction of the following persons are blocked under the relevant sanctions authority listed below.

Individuals

1. CHEKALOV, Valeriy Yevgenyevich, Russia; DOB 10 Jan 1976; nationality Russia; Gender Male (individual) [RUSSIA-EO14024] (Linked To: PRIGOZHIN, Yevgeniy Viktorovich).

Designated pursuant to section 1(a)(vii) of E.O 14024 for being owned or controlled by, or having acted or purported to act for or on behalf of, directly or indirectly, YEVGENIY VIKTOROVICH PRIGOZHIN, a person whose property and interests in property are blocked pursuant to E.O. 14024.

2. RIM, Yong Hyok, Korea, North; DOB 04 Mar 1972; nationality Korea, North; Gender Male (individual) [RUSSIA-EO14024] (Linked To: PRIGOZHIN, Yevgeniy Viktorovich).

Designated pursuant to section 1(a)(vi)(B) of E.O. 14024 for having materially assisted, sponsored, or provided financial, material, or technological support for, or goods or services to or in support of YEVGENIY VIKTOROVICH PRIGOZHIN, a person whose property and interests are blocked pursuant to E.O. 14024.

3. LEPIN, Vladimir Nikolaevich, Russia; DOB 28 Jul 1959; POB Tambov, Russia; nationality Russia; Gender Male (individual) [RUSSIA-EO14024] (Linked To: JOINT STOCK COMPANY CONCERN KALASHNIKOV).

Designated pursuant to section 1(a)(iii)(C) of E.O. 14024 for being or having been a leader, official, senior executive officer, or member of the board of directors of JOINT STOCK COMPANY CONCERN KALASHNIKOV, an entity whose property and interests in property are blocked pursuant to E.O. 14024.

Entities

1. CENTRAL RESEARCH INSTITUTE OF THE RUSSIAN AIR AND SPACE FORCES (a.k.a. FEDERALNOE GOSUDARSTVENNOE BJUDZHETNOE UCHREZHDENIE TSENTRALNYJ NAUCHNO-ISSLEDOVATELSKIJ INSTITUT VOJSK VOSDUSHNO-KOSMICHESKOJ OBORONY MINOBORONY ROSSII; a.k.a. FGBU TSNII VVKO MINOBORONY ROSSII; a.k.a. “TSNII VVKO”), 32 Afanasiya Nikitina Waterfront, Tver 170026, Russia; Tax ID No. 5018163975 (Russia); Registration Number 1145018002711 (Russia) [RUSSIA-EO14024].

Designated pursuant to section 1(a)(i) of E.O. 14024 for operating or having operated in the defense and related materiel sector of the Russian Federation economy.

2. FEDERAL STATE UNITARY ENTERPRISE CENTER FOR OPERATION OF SPACE GROUND BASED INFRASTRUCTURE (a.k.a. AKTSIONERNOE OBSHCHESTVO TSENTR EKSPLUATATSII OBEKTOV NAZEMNOI KOSMICHESKOI INFRASTRUKTURY; a.k.a. FEDERALNOE GOSUDARSTVENNOE UNITARNOE PREDPRIIATIE TSENTR EKSPLUATATSII OBEKTOV NAZEMNOI KOSMICHESKOI INFRASTRUKTURY; a.k.a. “AO TSENKI”; a.k.a. “FSUE TSENKI”), 42 Shchepkina Str., Moscow 129110, Russia; Tax ID No. 9702013720 (Russia); Registration Number 1207700033760 (Russia) [RUSSIA-EO14024].

Designated pursuant to section 1(a)(i) of E.O. 14024 for operating or having operated in the aerospace sector of the Russian Federation economy.

3. JOINT STOCK COMPANY AVIATION ELECTRONICS AND COMMUNICATION SYSTEMS (a.k.a. AKTSIONERNOE OBSHCHESTVO AVIATSIONNAIA ELEKTRONIKA I KOMMUNIKATSIONNYE SISTEMY; a.k.a. “AO AVEKS”), 15 Proezd Entuziastov, Suite 8A, Moscow 111024, Russia; Tax ID No. 7714041380 (Russia); Registration Number 1027700419636 (Russia) [RUSSIA-EO14024].

Designated pursuant to section 1(a)(i) of E.O. 14024 for operating or having operated in the aerospace sector of the Russian Federation economy.

4. AEM PROPULSION, Stachek avenue 47, Room 17, St. Petersburg 198097, Russia; Tax ID No. 7706614573 (Russia); Registration Number 1067746426439 (Russia) [RUSSIA-EO14024].

Designated pursuant to section 1(a)(vii) of E.O. 14024 for being owned or controlled by, or has acted or purported to act for or on behalf of, directly or indirectly, the Government of the Russian Federation.

5. JOINT STOCK COMPANY SCIENTIFIC AND PRODUCTION ASSOCIATION CRITICAL INFORMATION SYSTEMS (a.k.a. “JSC NPO KIS”), Kitaigorodsky passage, 7, building 1, floor 1, Office 1035, ext. ter. Tagansky municipal district, Moscow 109012, Russia; Tax ID No. 9705178310 (Russia); Registration Number 1227700585353 (Russia) [RUSSIA-EO14024].

Designated pursuant to section 1(a)(vii) of E.O. 14024 for being owned or controlled by, or has acted or purported to act for or on behalf of, directly or indirectly, the Government of the Russian Federation.

On July 20, 2023, based on a decision by the Department of State, in consultation with other departments, as appropriate, OFAC updated the entry on the SDN List for the following person, whose property and interests in property subject to U.S. jurisdiction continue to be blocked under the relevant sanctions authority listed below.

1. KALASHNIKOV CONCERN (a.k.a. CONCERN KALASHNIKOV; a.k.a. IZHEVSKIY MASHINOSTROITEL'NYI ZAVOD OAO; f.k.a. IZHMASH R&D CENTER; f.k.a. JSC NPO IZHMASH; f.k.a. NPO IZHMASH OAO; a.k.a. OJSC CONCERN KALASHNIKOV; f.k.a. OJSC IZHMASH; f.k.a. SCIENTIFIC PRODUCTION ASSOCIATION IZHMASH JOINT STOCK COMPANY), 3, Derjabin Pr., Izhevsk, Udmurt Republic 426006, Russia; Secondary sanctions risk: Ukraine-/Russia-Related Sanctions Regulations, 31 CFR 589.201 and/or 589.209; Registration ID 1111832003018 [UKRAINE-EO13661]

-to-

JOINT STOCK COMPANY CONCERN KALASHNIKOV (a.k.a. CONCERN KALASHNIKOV; a.k.a. IZHEVSKIY MASHINOSTROITEL'NYI ZAVOD OAO; a.k.a. JSC KALASHNIKOV CONCERN; a.k.a. KALASHNIKOV CONCERN; a.k.a. OJSC KALASHNIKOV CONCERN), 18 Krzhizhanovsky St, Bldg 4, Moscow 11728, Russia; 2/93 Deryabin Passage, Room 78, Izhevsk 426006, Russia; Secondary sanctions risk: Ukraine-/Russia-Related Sanctions Regulations, 31 CFR 589.201 and/or 589.209; Tax ID No. 1832090230 (Russia); Registration Number 1111832003018 (Russia) [UKRAINE-EO13661] [RUSSIA-EO14024].

Designated pursuant to section 1(a)(i) of E.O. 14024 for operating or having operated in the defense and related materiel sector of the Russian Federation economy.

Notice of Department of State Actions

On September 14, 2023, the Department of State, in consultation with other departments, as appropriate, determined that the property and interests in property subject to U.S. jurisdiction of the following persons are blocked under the relevant sanctions authority listed below.

Individuals

1. KOCHKIN, Aleksander Viktorovich (a.k.a. KOCHKIN, Alexander Viktorovich), Russia; DOB 10 Feb 1957; nationality Russia; Gender Male (individual) [RUSSIA-EO14024] (Linked To: NPK TEKHMASH OAO).

Designated pursuant to section 1(a)(iii)(A) of E.O. 14024 for being or having been a leader, official, senior executive officer, or member of the board of directors of the Government of the Russian Federation; section 1(a)(iii)(C) for being or having been a leader, official, senior executive officer, or member of the board of directors of NPK TEKHMASH OAO, an entity whose property and interests in property are blocked pursuant to E.O. 14024; and section 1(a)(vii) for having acted or purported to act for or on behalf of, directly or indirectly, the Government of the Russian Federation and for having acted or purported to act for or on behalf of, directly or indirectly, NPK TEKHMASH OAO, a person whose property and interests in property are blocked pursuant to E.O. 14024.

2. SHEVELIN, Pavel Pavlovich, Nikolay Sokolov Street, Building 40, Apartment 57, St. Petersburg, Russia; DOB 10 Oct 1989; POB Petrozavodsk, Russia; nationality Russia; Gender Male; Passport 8617230995 (Russia) (individual) [RUSSIA-EO14024].

Designated pursuant to section 1(a)(i) of E.O. 14024 for operating or having operated in the defense and related materiel sector of the Russian Federation economy.

Entities

1. JSC 560 ARMORED REPAIR PLANT, 16 Pervomaiskaya St, Vozzhaevka 676811, Russia; Tax ID No. 2811005250 (Russia); Registration Number 1092804000255 (Russia) [RUSSIA-EO14024].

Designated pursuant to section 1(a)(i) of E.O. 14024 for operating or having operated in the defense and related materiel sector of the Russian Federation economy.

2. JOINT STOCK COMPANY DUBNENSKY MACHINE BUILDING PLANT NAMED AFTER NP FEDOROV (a.k.a. AKTSIONERNOYE OBSHCHESTVO DUBNENSKIY MASHINOSTROITELNYY ZAVOD IMENI NP FODOROVA; a.k.a. DUBNA ENGINEERING PLANT; a.k.a. DUBNA MACHINE BUILDING PLANT), ul. Zhukovsky, d. 2, str. 1, Dubna, Moscow Region 141983, Russia; Tax ID No. 5010030050 (Russia); Registration Number 1045002200616 (Russia) [RUSSIA-EO14024].

Designated pursuant to section 1(a)(i) of E.O. 14024 for operating or having operated in the defense and related materiel sector of the Russian Federation economy.

3. LLC CHELYABINSK TRACTOR PLANT URALTRAK (a.k.a. CHTZ URALTRAK), 3 Lenin Ave, office 1, Chelyabinsk 454007, Russia; Tax ID No. 7452027843 (Russia); Registration Number 1027403766830 (Russia) [RUSSIA-EO14024].

Designated pursuant to section 1(a)(i) of E.O. 14024 for operating or having operated in the defense and related materiel sector of the Russian Federation economy.

4. JOINT STOCK COMPANY RESEARCH AND PRODUCTION ASSOCIATION NOVATOR (a.k.a. NPO NOVATOR), 35 Nedelina Str., Mirny 164170, Russia; Tax ID No. 2925005575 (Russia); Registration Number 1102920000017 (Russia) [RUSSIA-EO14024].

Designated pursuant to section 1(a)(i) of E.O. 14024 for operating or having operated in the defense and related materiel sector of the Russian Federation economy.

5. 71ST AUTOMOTIVE AND ARMORED VEHICLE REPAIR PLANT FEDERAL STATE OWNED INSTITUTION OF THE RUSSIAN FEDERATION MINISTRY OF DEFENSE, 39 Levashov St., Ramensky City 140145, Russia; Tax ID No. 5040182726 (Russia); Registration Number 1225000143235 (Russia) [RUSSIA-EO14024].

Designated pursuant to section 1(a)(i) of E.O. 14024 for operating or having operated in the defense and related materiel sector of the Russian Federation economy.

6. 72ND AUTOMOTIVE AND ARMORED VEHICLE REPAIR PLANT FEDERAL STATE OWNED INSTITUTION OF THE RUSSIAN FEDERATION MINISTRY OF DEFENSE, Bldng. 12, Camp No. 69, Kamensk-Shakhtinsky 347800, Russia; Tax ID No. 6147042096 (Russia); Registration Number 1226100034588 (Russia) [RUSSIA-EO14024].

Designated pursuant to section 1(a)(i) of E.O. 14024 for operating or having operated in the defense and related materiel sector of the Russian Federation economy.

7. JOINT STOCK COMPANY 419 AIRCRAFT REPAIR PLANT (a.k.a. 419 AVIATION REPAIR PLANT; a.k.a. AIRCRAFT REPAIR PLANT NO 419; a.k.a. “419 ARZ”; a.k.a. “ARP 419”), 16 k. 2 Politruk Pasechnik Str., St. Petersburg 198326, Russia; Tax ID No. 7807343496 (Russia); Registration Number 1097847146748 (Russia) [RUSSIA-EO14024].

Designated pursuant to section 1(a)(i) of E.O. 14024 for operating or having operated in the defense and related materiel sector of the Russian Federation economy.

8. OPEN JOINT STOCK COMPANY MUROMTEPLOVOZ, 10 Filatova Street, Murom City 602252, Russia; Tax ID No. 3307001169 (Russia); Registration Number 1023302151828 (Russia) [RUSSIA-EO14024].

Designated pursuant to section 1(a)(i) of E.O. 14024 for operating or having operated in the defense and related materiel sector of the Russian Federation economy.

9. 61ST ARMORED VEHICLE REPAIR PLANT JOINT STOCK COMPANY (a.k.a. JSC 61ST ARMOR REPAIR PLANT; a.k.a. OJSC 61 BTRZ), 11 Zavodskaya dor., Strelna, St. Petersburg 198515, Russia; Tax ID No. 7819310752 (Russia); Registration Number 1097847131678 (Russia) [RUSSIA-EO14024].

Designated pursuant to section 1(a)(i) of E.O. 14024 for operating or having operated in the defense and related materiel sector of the Russian Federation economy.

10. JOINT STOCK COMPANY 144 ARMORED REPAIR PLANT (a.k.a. JSC 144 ARMORED VEHICLE REPAIR PLANT), Building 2, Simska St., Yekaterinburg 620024, Russia; Tax ID No. 6674331056 (Russia); Registration Number 1096674009332 (Russia) [RUSSIA-EO14024].

Designated pursuant to section 1(a)(i) of E.O. 14024 for operating or having operated in the defense and related materiel sector of the Russian Federation economy.

11. JSC OMSK TRANSPORT MACHINE FACTORY OMSKTRANSMASH, 2 Krasny Per., Omsk 644005, Russia; Tax ID No. 5505204171 (Russia); Registration Number 1085543060734 (Russia) [RUSSIA-EO14024].

Designated pursuant to section 1(a)(i) of E.O. 14024 for operating or having operated in the defense and related materiel sector of the Russian Federation economy.

12. PUBLIC JOINT STOCK COMPANY ODK SATURN (a.k.a. NPO SATURN JSC; a.k.a. “SATURN NGO”), 163 Lenina Ave, Rybinsk 152903, Russia; Tax ID No. 7610052644 (Russia); Registration Number 1027601106169 (Russia) [RUSSIA-EO14024].

Designated pursuant to section 1(a)(i) of E.O. 14024 for operating or having operated in the aerospace sector of the Russian Federation economy.

13. JOINT STOCK COMPANY OMSK PLANT OF CIVIL AVIATION (a.k.a. JOINT STOCK COMPANY OMSKY FACTORY GRAZHDANSKOY AVIATSII; a.k.a. JSC OMSK CIVIL AVIATION PLANT; a.k.a. “JSC OZGA”), 112 Surovtseva Str, Omsk 644015, Russia; Tax ID No. 5507029944 (Russia); Registration Number 1025501378572 (Russia) [RUSSIA-EO14024].

Designated pursuant to section 1(a)(i) of E.O. 14024 for operating or having operated in the aerospace sector of the Russian Federation economy.

14. SCIENTIFIC INDUSTRIAL COMPANY DIPAUL PRIVATE JOINT STOCK COMPANY (a.k.a. AO NPF DIPOL; a.k.a. DIPAUL COMPANY; a.k.a. DIPAUL TECHNOLOGIES JSC), 5B, Rentgena Street, St. Petersburg 197101, Russia; 20/1, Ogorodny Proezd, Moscow 127372, Russia; Tax ID No. 7804137537 (Russia); Registration Number 1027802497656 (Russia) [RUSSIA-EO14024].

Designated pursuant to section 1(a)(i) of E.O. 14024 for operating or having operated in the electronics sector of the Russian Federation economy.

On September 14, 2023, based on a decision by the Department of State, in consultation with other departments, as appropriate, OFAC updated the entry on the SDN List for the following person, whose property and interests in property subject to U.S. jurisdiction continue to be blocked under the relevant sanctions authority listed below.

1. RUSATOM ADDITIVE TECHNOLOGIES (a.k.a. “RUSAT” (Cyrillic: “РУСАТ”)), Kashirskoe Sh. 49, P. 61, Floor 8, Room 3, Moscow 115409, Russia; Tax ID No. 7724424381 (Russia); Registration Number 1027705012400 (Russia) [RUSSIA-EO14024].

-to-

RUSATOM ADDITIVE TECHNOLOGIES (a.k.a. “RUSAT” (Cyrillic: “РУСАТ”)), Kashirskoe Sh. 49, P. 61, Floor 8, Room 3, Moscow 115409, Russia; Tax ID No. 7724424381 (Russia); Registration Number 5177746230547 (Russia) [RUSSIA-EO14024].

Designated pursuant to section 1(a)(i) of E.O. 14024 for operating or having operated in the defense and related materiel sector of the Russian Federation economy.

Notice of Department of State Actions

On November 2, 2023, based on a decision by the Department of State, in consultation with other departments, as appropriate, OFAC updated the entry on the SDN List for the following person, whose property and interests in property subject to U.S. jurisdiction continue to be blocked under the relevant sanctions authority listed below.

1. JOINT STOCK COMPANY RESEARCH AND PRODUCTION ASSOCIATION NOVATOR (a.k.a. NPO NOVATOR), 35 Nedelina Str., Mirny 164170, Russia; Tax ID No. 2925005575 (Russia); Registration Number 1102920000017 (Russia) [RUSSIA-EO14024].

-to-

JOINT STOCK COMPANY EXPERIMENTAL DESIGN BUREAU NOVATOR (a.k.a. AKTCIONERNOE OBSHESTVO OPITNOE KONSTRUKTORSKOE BYURO NOVATOR; a.k.a. AO OKB NOVATOR; a.k.a. NPO NOVATOR), 18 Kosmonautov Ave., Yekaterinburg 620017, Russia; Tax ID No. 6673092045 (Russia); Registration Number 1026605611339 (Russia) [RUSSIA-EO14024].

On November 2, 2023, to resolve duplicate entries of the same entity, based on a decision by the Department of State, in consultation with other departments, as appropriate, OFAC removed the duplicate designation of the following person and updated the entry of the following person, whose property and interests in property continues to be blocked under the relevant sanctions authority listed below.

Notice of Department of State Actions

On December 12, 2023, the Department of State, in consultation with other departments, as appropriate, determined that the property and interests in property subject to U.S. jurisdiction of the following persons are blocked under the relevant sanctions authority listed below.

Individuals

1. AFANASIEV, Igor Yurievich (a.k.a. AFANASEV, Igor Iurevich; a.k.a. AFANASYEV, Igor Yurievich), Russia; DOB 07 Sep 1968; POB Moscow, Russia; nationality Russia; Gender Male; Tax ID No. 772375218154 (Russia) (individual) [RUSSIA-EO14024].

Designated pursuant to section 1(a)(i) of E.O. 14024 for operating or having operated in the defense and related materiel sector of the Russian Federation economy.

2. SHUPRANOV, Vasily Nikolaevich (a.k.a. SHUPRANOV, Vasilii Nikolaevich), Russia; DOB 30 Mar 1957; POB Mezhenin village, Klimovichi district, Mogilev oblast, Belarus; nationality Russia; Gender Male; Tax ID No. 525608742548 (Russia) (individual) [RUSSIA-EO14024].

Designated pursuant to section 1(a)(i) of E.O. 14024 for operating or having operated in the defense and related materiel sector of the Russian Federation economy.

3. KAZAZAEV, Andrey Petrovich (a.k.a. KAZAZAEV, Andrei Petrovich), Russia; DOB 19 Nov 1964; POB Uglich, Russia; nationality Russia; Gender Male; Tax ID No. 330515309950 (Russia) (individual) [RUSSIA-EO14024] (Linked To: OPEN JOINT STOCK COMPANY VA DEGTYAREV PLANT).

Designated pursuant to section 1(a)(iii)(C) of E.O. 14024 for being or having been a leader, official, senior executive officer, or member of the board of directors of OPEN JOINT STOCK COMPANY VA DEGTYAREV PLANT, an entity whose property and interests in property are blocked pursuant to E.O. 14024.

4. POTAPOV, Aleksandr Valeryevich (a.k.a. POTAPOV, Aleksandr Valerievich), Russia; DOB 23 Feb 1963; POB Moscow, Russia; nationality Russia; Gender Male; Tax ID No. 770405465488 (Russia) (individual) [RUSSIA-EO14024] (Linked To: URALVAGONZAVOD).

Designated pursuant to section 1(a)(iii)(C) of E.O. 14024 for being or having been a leader, official, senior executive officer, or member of the board of directors of URALVAGONZAVOD, an entity whose property and interests in property are blocked pursuant to E.O. 14024.

Entities

1. IBEX SHIPPING INC, Office 4, 1st Floor, Mitsi Building 1, Stasinou Avenue, Nicosia 1060, Cyprus; Identification Number IMO 5344160 [RUSSIA-EO14024].

Designated pursuant to section 1(a)(i) of E.O. 14024 for operating or having operated in the marine sector of the Russian Federation economy.

2. AZIA SHIPPING COMPANY (a.k.a. OOO SUDOKHODNAIA KOMPANIIA AZIA; a.k.a. “AZSCO”), 29, Posetskaya Str., Vladivostok 690091, Russia; Tax ID No. 2540195189 (Russia); Identification Number IMO 5766958; Registration Number 1132540008732 (Russia) [RUSSIA-EO14024].

Designated pursuant to section 1(a)(i) of E.O. 14024 for operating or having operated in the marine sector of the Russian Federation economy.

3. AZIA SHIPPING HOLDINGS LIMITED, Office 4, 1st Floor Mitsi Building, 1, Stasinou Avenue, Nicosia 1060, Cyprus; Identification Number IMO 5053924; Registration Number HE 131171 (Cyprus) [RUSSIA-EO14024].

Designated pursuant to section 1(a)(i) of E.O. 14024 for operating or having operated in the marine sector of the Russian Federation economy.

4. JOINT STOCK COMPANY BARNAUL CARTRIDGE PLANT (a.k.a. AKTSIONERNOE OBSHCHESTVO BARNAULSKII PATRONNYI ZAVOD; a.k.a. “AO BPZ”), 28 P.S. Kulagina St, Barnaul 656002, Russia; Tax ID No. 2224080239 (Russia); Registration Number 1032202168305 (Russia) [RUSSIA-EO14024].

Designated pursuant to section 1(a)(i) of E.O. 14024 for operating or having operated in the defense and related materiel sector of the Russian Federation economy.

5. JOINT STOCK COMPANY SCIENTIFIC AND PRODUCTION ASSOCIATION ELECTROMASHINA (a.k.a. AKTSIONERNOE OBSHCHESTVO NAUCHNO PROIZVODSTVENNOE OBEDINENIE ELEKTROMASHINA; a.k.a. AO NPO ELEKTROMASHINA), 2 Mashinostroiteley st, Chelyabinsk 454119, Russia; Tax ID No. 7449044990 (Russia); Registration Number 1047422507736 (Russia) [RUSSIA-EO14024].

Designated pursuant to section 1(a)(i) of E.O. 14024 for operating or having operated in the defense and related materiel sector of the Russian Federation economy.

6. JOINT STOCK COMPANY TETIS PRO (a.k.a. AKTCIONERNOE OBSHESTVO TETIS PRO; a.k.a. TETHYS PRO JSC), Ul. Polyany D.54, Floor 3, PO Box 73, Moscow 117042, Russia; Polyany St., Building 54, Building 1, Moscow 142791, Russia; 19-21 Novo-Rybinskaya St., Office 330, Saint Petersburg 196084, Russia; Tax ID No. 7724643714 (Russia); Registration Number 1077763809353 (Russia) [RUSSIA-EO14024].

Designated pursuant to section 1(a)(i) of E.O. 14024 for operating or having operated in the defense and related materiel sector of the Russian Federation economy.

7. JOINT STOCK COMPANY NOVOSIBIRSK CARTRIDGE PLANT (a.k.a. AKTSIONERNOE OBSHCHESTVO NOVOSIBIRSKII PATRONNYI ZAVOD; a.k.a. “JSC NPZ”), Station Building St., Bldg. 30A, Office 307, Novosibirsk 630108, Russia; Tax ID No. 5445115799 (Russia); Registration Number 1035404726246 (Russia) [RUSSIA-EO14024].

Designated pursuant to section 1(a)(i) of E.O. 14024 for operating or having operated in the defense and related materiel sector of the Russian Federation economy.

8. JOINT STOCK COMPANY CHEBOKSARY PRODUCTION ASSOCIATION NAMED AFTER VI CHAPAEV (a.k.a. AKTSIONERNOE OBSHCHESTVO CHEBOKSARSKOE PROIZVODSTVENNOE OBEDINENIE IMENI VI CHAPAEVA), 1 Socialisticheskaia St., Cheboksary 428038, Russia; Tax ID No. 2130095159 (Russia); Registration Number 1112130014325 (Russia) [RUSSIA-EO14024].

Designated pursuant to section 1(a)(i) of E.O. 14024 for operating or having operated in the defense and related materiel sector of the Russian Federation economy.

9. JOINT STOCK COMPANY NIZHNY NOVGOROD PLANT OF THE 70TH ANNIVERSARY OF VICTORY (a.k.a. AO NIZHEGORODSKIY ZAVOD 70 LETIYA POBEDY; a.k.a. AO NZ 70 LETIYA POBEDY; a.k.a. ZAVOD 70 LETIYA POBEDY; a.k.a. “NZSLP”), 21 Sormovskoe Highway, Nizhny Novgorod 603052, Russia; Tax ID No. 5259113339 (Russia); Registration Number 1145259004296 (Russia) [RUSSIA-EO14024].

Designated pursuant to section 1(a)(i) of E.O. 14024 for operating or having operated in the defense and related materiel sector of the Russian Federation economy.

10. JOINT STOCK COMPANY FOREIGN TRADE ASSOCIATION ELEKTRONINTORG (a.k.a. ELECTRONINTORG), Ukrainsky Blvd. 8, Building 1, Moscow 121059, Russia; 4 Ivana Franko St., Building 10, Moscow 121108, Russia; Tax ID No. 7743592991 (Russia); Registration Number 1067746527606 (Russia) [RUSSIA-EO14024].

Designated pursuant to section 1(a)(i) of E.O. 14024 for operating or having operated in the defense and related materiel sector of the Russian Federation economy.

11. OPEN JOINT STOCK COMPANY VA DEGTYAREV PLANT (a.k.a. OJSC PLANT IM VA DEGTYAREVA; a.k.a. OTKRYTOE AKTSIONERNOE OBSHCHESTVO ZAVOD IM VA DEGTIAREVA; a.k.a. “OAO ZID”), 4 Truda St., Kovrov 601900, Russia; Tax ID No. 3305004083 (Russia); Registration Number 1023301951397 (Russia) [RUSSIA-EO14024].

Designated pursuant to section 1(a)(i) of E.O. 14024 for operating or having operated in the defense and related materiel sector of the Russian Federation economy.

12. YAKT SOKOL (a.k.a. OBSHCHESTVO S OGRANICHENNOI OTVETSTVENNOSTIU IAKT SOKOL), Ul. Petra Alekseeva D. 2, K. 5, Kv. 28, Yakutsk 677000, Russia; Tax ID No. 1435322414 (Russia); Registration Number 1171447008974 (Russia) [RUSSIA-EO14024].

Designated pursuant to section 1(a)(i) of E.O. 14024 for operating or having operated in the defense and related materiel sector of the Russian Federation economy.

13. OPEN JOINT STOCK COMPANY TAMBOVSKY BAKERY (a.k.a. OTKRYTOE AKTSIONERNOE OBSHCHESTVO TAMBOVSKII KHLEBOKOMBINAT), 57 Volodarsky St, Tambov 392008, Russia; Tax ID No. 6832000275 (Russia); Registration Number 1026801228387 (Russia) [RUSSIA-EO14024].

Designated pursuant to section 1(a)(i) of E.O. 14024 for operating or having operated in the defense and related materiel sector of the Russian Federation economy.

14. JOINT STOCK COMPANY OPTRON STAVROPOL (a.k.a. AKTSIONERNOE OBSCHESTVO OPTRON STAVROPOL; a.k.a. GAZTRON CORP; a.k.a. OPTRON STAVROPOL CORP), 431 Lenina Str., Stavropol 355000, Russia; Tax ID No. 2635078677 (Russia); Registration Number 1052600264254 (Russia) [RUSSIA-EO14024].

Designated pursuant to section 1(a)(i) of E.O. 14024 for operating or having operated in the electronics sector of the Russian Federation economy.

15. LIMITED LIABILITY COMPANY RADIOCOMP (a.k.a. LLC RADIOKOMP; a.k.a. OBSHESTVO S OGRANICHENNOJ OTVETSTVENNOSTYU RADIOKOMP), Ul Aviamotornaya d. 8A, Moscow 111024, Russia; Tax ID No. 7722251800 (Russia); Registration Number 1027739746616 (Russia) [RUSSIA-EO14024].

Designated pursuant to section 1(a)(i) of E.O. 14024 for operating or having operated in the electronics sector of the Russian Federation economy.

16. RESEARCH AND TECHNOLOGICAL INSTITUTE OF OPTICAL MATERIALS ALL RUSSIA SCIENTIFIC CENTER SI VAVILOV STATE OPTICAL INSTITUTE (a.k.a. JSC RESEARCH AND PRODUCTION SI VAVILOV; a.k.a. RESEARCH AND PRODUCTION CORPORATION SI VAVILOV SOI; a.k.a. VAVILOV STATE OPTICAL INSTITUTE), Ul. Babushkina D. 36, Korp. 1, Saint Petersburg 192171, Russia; Tax ID No. 7811483834 (Russia); Registration Number 1117847038121 (Russia) [RUSSIA-EO14024].

Designated pursuant to section 1(a)(i) of E.O. 14024 for operating or having operated in the technology sector of the Russian Federation economy.

Vessels

1. CAPTAIN YAKUBOVICH (UBCG2) General Cargo Russia flag; Vessel Year of Build 1984; Vessel Registration Identification IMO 8318740 (Vessel) [RUSSIA-EO14024] (Linked To: IBEX SHIPPING INC).

Identified as property in which IBEX SHIPPING INC, an entity designated pursuant to E.O. 14024, has an interest.

2. MARIA (UBRH7) General Cargo Russia flag; Vessel Year of Build 1986; Vessel Registration Identification IMO 8517839 (Vessel) [RUSSIA-EO14024] (Linked To: IBEX SHIPPING INC).

Identified as property in which IBEX SHIPPING INC, an entity designated pursuant to E.O. 14024, has an interest.

3. ARKADIY CHERNYSHEV (UBSH5) General Cargo Russia flag; Vessel Year of Build 1988; Vessel Registration Identification IMO 8714695 (Vessel) [RUSSIA-EO14024] (Linked To: IBEX SHIPPING INC).

Identified as property in which IBEX SHIPPING INC, an entity designated pursuant to E.O. 14024, has an interest.

On December 12, 2023, based on a decision by the Department of State, in consultation with other departments, as appropriate, OFAC updated the entry on the SDN List for the following person, whose property and interests in property subject to U.S. jurisdiction continue to be blocked under the relevant sanctions authority listed below.

1. URALVAGONZAVOD (a.k.a. NAUCHNO-PROIZVODSTVENNAYA KORPORATSIYA URALVAGONZAVOD OAO; a.k.a. NPK URALVAGONZAVOD; a.k.a. NPK URALVAGONZAVOD OAO; a.k.a. OJSC RESEARCH AND PRODUCTION CORPORATION URALVAGONZAVOD; a.k.a. RESEARCH AND PRODUCTION CORPORATION URALVAGONZAVOD; a.k.a. RESEARCH AND PRODUCTION CORPORATION URALVAGONZAVOD OAO; a.k.a. URALVAGONZAVOD CORPORATION; a.k.a. “UVZ”), 28, Vostochnoye shosse, Nizhni Tagil, Sverdlovsk region 622007, Russia; 28 Vostochnoe shosse, Nizhni Tagil, Sverdlovskaya oblast 622007, Russia; 40, Bolshaya Yakimanka Street, Moscow 119049, Russia; Vistochnoye Shosse, 28, Nizhny Tagil 622007, Russia; website http://www.uvz.ru/; alt. Website http://uralvagonzavod.com/; Email Address web@uvz.ru; Secondary sanctions risk: Ukraine-/Russia-Related Sanctions Regulations, 31 CFR 589.201 and/or 589.209 [UKRAINE-EO13661].

-to-

URALVAGONZAVOD (a.k.a. AKTSIONERNOE OBSHCHESTVO KONTSERN URALVAGONZAVOD; a.k.a. JSC CONCERN URALVAGONZAVOD; a.k.a. JSC RESEARCH AND PRODUCTION CORPORATION URALVAGONZAVOD; a.k.a. JSC RESEARCH AND PRODUCTION CORPORATION URALVAGONZAVOD NAMED AFTER FE DZERZHINSKY; a.k.a. NAUCHNO-PROIZVODSTVENNAYA KORPORATSIYA URALVAGONZAVOD OAO; a.k.a. NPK URALVAGONZAVOD OAO; a.k.a. OJSC RESEARCH AND PRODUCTION CORPORATION URALVAGONZAVOD; a.k.a. RESEARCH AND PRODUCTION CORPORATION URALVAGONZAVOD OAO; a.k.a. URALVAGONZAVOD CORPORATION; a.k.a. “UVZ”), 40 Bolshaya Yakimanka Street, Moscow 119049, Russia; 28 Vostochnoye Shosse, Nizhni Tagil, Sverdlovsk Region 66207, Russia; Secondary sanctions risk: Ukraine-/Russia-Related Sanctions Regulations, 31 CFR 589.201 and/or 589.209; Tax ID No. 7706453206 (Russia); Registration Number 1187746432345 (Russia) [UKRAINE-EO13661] [RUSSIA-EO14024].

Designated pursuant to section 1(a)(i) of E.O. 14024 for operating or having operated in the defense and related materiel sector of the Russian Federation economy.

Renee P. Sonderman,
Acting Deputy Assistant Secretary, Bureau of Arms Control and Nonproliferation, Department of State.

[FR Doc. 2025-23019 Filed 12-16-25; 8:45 am]

BILLING CODE 4710-27-P